NATIONAL FOUNDATION ON THE ARTS AND THE HUMANITIES

National Endowment for the Arts

National Council on the Arts 208th Meeting

AGENCY: National Endowment for the Arts, National Foundation on the Arts and Humanities.

ACTION: Notice of Meeting.

SUMMARY: Pursuant to the Federal Advisory Committee Act, as amended, notice is hereby given that a meeting of the National Council on the Arts will be held open to the public for in-person attendance as well as by videoconference.

DATES: See the SUPPLEMENTARY INFORMATION section for meeting time and date. The meeting is Eastern time and the ending time is approximate.

ADDRESSES: The National Endowment for the Arts, Constitution Center, 400 Seventh Street SW, Washington, DC 20560. This meeting will be held in-person and by videoconference. Please see arts.gov for the most up-to-date information.

FOR FURTHER INFORMATION CONTACT: Liz Auclair, Office of Public Affairs, National Endowment for the Arts, Washington, DC 20506, at 202/682-5744.

SUPPLEMENTARY INFORMATION: The meeting on October 27, 2022, from 12:45 p.m. to 3:00 p.m., will be closed for discussion of National Medal of Arts nominations. The meeting on October 28, 2022, from 9:30 a.m. to 11:00 a.m. will be open to the public. If, in the course of the open session discussion, it becomes necessary for the Council to discuss non-public commercial or financial information of intrinsic value, the Council will go into closed session pursuant to subsection (c)(4) of the Government in the Sunshine Act, 5 U.S.C. 552b, and in accordance with the March 11, 2022 determination of the Chair. Additionally, discussion concerning purely personal information about individuals, such as personal biographical and salary data or medical information, may be conducted by the Council in closed session in accordance with subsection (c) (6) of 5 U.S.C. 552b.

Any interested persons may attend, as observers, to Council discussions and reviews that are open to the public. In-person attendees must register in advance at: https://www.eventbrite.com/e/208th-national-council-on-the-arts-meeting-public-session-tickets-431803444727.

If you need special accommodations due to a disability, please contact Beth Bienvenu, Office of Accessibility, National Endowment for the Arts, Constitution Center, 400 7th St. SW, Washington, DC 20506, 202/682-5733, Voice/T.T.Y. 202/682-5496, at least seven (7) days prior to the meeting.

The upcoming meeting is:

National Council on the Arts 208th Meeting.

This portion of the meeting will be held open to the public for in-person attendance and by videoconference.

Date and time: October 28, 2022; 9:30 a.m. to 11:00 a.m.

There will be opening remarks and voting on recommendations for grant funding and rejection, followed by updates from NEA Chair Maria Rosario Jackson.

To view the webcasting of this open session of the meeting, go to: https://www.arts.gov/.

Dated: October 4, 2022.
Daniel Beattie,
Director, Office of Guidelines and Panel Operations.

[FR Doc. 2022-21970 Filed 10-7-22; 8:45 am]

BILLING CODE 7537-01-P